DEPARTMENT OF COMMERCE

National Telecommunications and Information Administration

Notice, Roundtable on Convergence of Communications Technologies

AGENCY: National Telecommunications and Information Administration, Department of Commerce

ACTION: Notice of Public Meeting

SUMMARY: The National Telecommunications and Information Administration (NTIA) will host a morning roundtable to address issues relating to the convergence of communications technologies, including the Telephone Number Mapping (ENUM) Protocol that facilitates convergence between the Internet and the public-switched telephone network. The roundtable will address how such convergence technologies function, alternatives to ENUM in the competitive marketplace, and policy issues including privacy and security that may arise with use of such convergence technologies.

DATES: The roundtable will be held from 1 p.m. to 5 p.m. on Wednesday, August 14, 2002.

ADDRESSES: The roundtable will be held at the U.S. Department of Commerce, 1401 Constitution Avenue, N.W., Washington, D.C., in Room 4830. (Entrance to the Department of Commerce is on 14th Street between Constitution and Pennsylvania Avenues.) The roundtable will be open to the public. To facilitate entry into the Department of Commerce, please have a photo identification and/or a U.S. Government building pass, if applicable.

FOR FURTHER INFORMATION CONTACT: Wendy Lader, Office of Policy Analysis and Development, NTIA, telephone (202) 482-1150, or electronic mail: wlader@ntia.doc.gov. Media inquiries should be directed to the Office of Public Affairs, NTIA, at (202) 482-7002.

SUPPLEMENTARY INFORMATION: Traditionally, different communications networks and services have required separate addresses or numbers, such as an e-mail address, a telephone number, a fax number, or a cell phone number. Convergence technologies, such as ENUM, Voice-over-IP, and Session Initiation Protocol (SIP), now facilitate or promise to facilitate voice and other communications across these various architectures. ENUM, for example, is intended to map a telephone number from the public-switched telephone network (PSTN) to the Domain Name System (DNS) on the Internet. This mapping system may make it possible to reach a user via e-mail, fax, or phone using the standard telephone number (e.164 number) as the universal communications identifier.

NTIA's morning roundtable will address issues regarding such convergence technologies. As the principal adviser to the President on telecommunications and information policies, NTIA is vested with “[t]he authority to conduct studies and make recommendations concerning the impact of the convergence of computer and communications technology” 47 U.S.C. § 902(M). The roundtable will explore the range of existing or developing convergence technologies, how they may be used, and their implications for consumer data privacy and security. This dialogue with leading U.S. experts in the field will help the U.S. government, among other things, prepare for discussions in international fora. Issues relating specifically to ENUM are currently being addressed in other venues, including the International Telecommunication Union, the Internet Engineering Task Force, and the ENUM Forum.

To solicit views from selected roundtable participants, the morning roundtable will be divided into two parts. The tentative agenda is as follows:

1 pm to 2:30 pm—Convergence Technologies: Their Viability and Utility in a Competitive Marketplace

2:45 pm to 4:15 pm—Privacy, Security, Authentication, and other Policy Issues Relating to Convergence Technologies

4:15 pm to 5 pm—Audience Question and Answer Session

The first session will address such questions as: (1) how the various convergence technologies function, including results from existing testbeds; (2) possible applications of convergence technologies; (3) how ENUM or similar systems would be introduced and implemented in the U.S., including how such systems could open to competition; and (4) whether and how convergence technologies and systems can co-exist.

The second session will address policy issues, particularly in the areas of privacy, security, and authentication, including: (1) what privacy measures might be necessary to protect individual data collected through the use of convergence technologies; (2) whether privacy protections are better left to the competitive marketplace or should be standardized; (3) what security precautions might be necessary to protect user data; and (4) what authentication and authorization requirements might be necessary to ensure the identity of the user.

A final, updated copy of the agenda will be available on NTIA's webpage at http://www.ntia.doc.gov before the roundtable.

PUBLIC PARTICIPATION: This meeting will be open to the public. Seating for public attendees is limited and is available on a first-come, first-served basis. The roundtable will be physically accessible to people with disabilities. Any member of the public wishing to attend and requiring special services, such as sign language interpretation or other ancillary aids, should contact Wendy Lader at least three (3) days prior to the meeting via the contact information provided above.

Dated: July 12, 2002.
Kathy D. Smith,
Chief Counsel, National Telecommunications and Information Administration.

[FR Doc. 02-17956 Filed 7-16-02; 8:45 am]

BILLING CODE 3510-60-S